DEPARTMENT OF ENERGY

Federal Energy Regulatory Commission

[Project No. 2232-522; Project No. 516-459]

Duke Energy Carolinas, LLC, South Carolina Electric & Gas Company; Notice of Meetings

On March 18, 2011, the National Marine Fisheries Service (NMFS) requested a meeting with Duke Energy Carolinas, LLC (Duke), licensee for the Catawba-Wateree Hydroelectric Project No. 2232, and Commission staff to discuss information needed to complete formal consultation for shortnose sturgeon (Acipenser brevirostrum) under section 7 of the Endangered Species Act. NMFS requested a similar meeting with South Carolina Electric & Gas Company (SCE&G), licensee for the Saluda Hydroelectric Project No. 516, and Commission staff on March 25, 2011.

Accordingly, Commission staff will meet with representatives of NMFS and Duke, the Commission's non-federal representative for the Catawba-Wateree Project, on Tuesday, May 24, 2011. Similarly, Commission staff will meet with representatives of NMFS and SCE&G, the Commission's non-federal representative for the Saluda Project, on Wednesday, May 25, 2011. Both meetings will start at 9 a.m. at NMFS' office at 253 13th Avenue South, St. Petersburg, Florida. All local, state, and federal agencies, and interested parties, are hereby invited to attend and observe either, or both, meeting(s). Questions concerning these meetings should be directed to Ms. Karla Reece of NMFS at (727) 824-5348.

Dated: May 6, 2011.
Kimberly D. Bose,
Secretary.

[FR Doc. 2011-11735 Filed 5-12-11; 8:45 am]

BILLING CODE 6717-01-P